DEPARTMENT OF TRANSPORTATION

Federal Aviation Administration

14 CFR Part 95

[Docket No. 30453; Amdt. No. 456]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, September 1, 2005.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on July 26, 2005.
James J. Ballough,
Director, Flight Standards Service.

Adoption of the Amendment

Accordingly, pursuant to the authority delegated to me by the Administrator, part 95 of the Federal Aviation Regulations (14 CFR part 95) is amended as follows effective at 0901 UTC, January 20, 2005.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 456 effective date September 1, 2005]
From | To | MEA
§ 95.1001 Direct Routes-U.S. Color Routes
§ 95.4 Green Federal Airway G1 Is Amended to Read in Part
Horth, AK FIX | Mordi, AK FIX | *8000
*2500—MOCA
*5000—GNSS MEA
§ 95.4 Green Federal Airway G8 Is Amended to Read in Part
Dutch Harbor, AK NDB/DME | Mordi, AK FIX | *9000
*5700—MOCA
*6000—GNSS MEA
Mordi, AK FIX | Elfee, AK NDB | *8000
*5300—MOCA
*7000—GNSS MEA

From | To | MEA | MAA
§ 95.4000 High Altitude RNAV Routes
§ 95.4006 RNAV Route Q6 Is Added to Read
Talkeetna, AK VOR/DME | Jokap, AK FIX |  | 45000
18000—GNSS MEA
Jokap, AK FIX | Kutde, AK FIX |  | 45000
18000-GNSS MEA
Kutde, AK FIX | Lacil, AK FIX |  | 45000
18000—GNSS MEA
Lacil, AK FIX | Barrow, AK VOR/DME |  | 45000
18000—GNSS MEA
§ 95.4008 RNAV Route Q8 Is Added to Read
Anchorage, AK VOR/DME | Webik, AK FIX |  | 45000
*18000-GNSS MEA
Webik, AK FIX | Galena, AK VORTAC |  | 45000
18000—GNSS MEA
§ 95.4010 RNAV Route Q10 Is Added to Read
Kukuliak, AK VOR/DME | Emmonak, AK VOR/DME |  | 45000
*18000—GNSS MEA
§ 95.4012 RNAV Route Q12 Is Added to Read
Kotzebue, AK VOR/DME | Deadhorse, AK VOR/DME |  | 45000
*18000—GNSS MEA
§ 95.4014 RNAV Route Q14 Is Added to Read
Kodiak, AK VORTAC | Wuxan, AK FIX |  | 45000
*18000—GNSS MEA
Wuxan, AK FIX | Johnstone Point, AK VOR/DME |  | 45000
18000—GNSS MEA
§ 95.4016 RNAV Route Q16 Is Added to Read
Kodiak, AK VORTAC | Zaxum, AK FIX |  | 45000
18000—GNSS MEA
Zaxum, AK FIX | Middleton Island, AK VOR/DME |  | 45000
18000—GNSS MEA
§ 95.4017 RNAV Route Q17 Is Added to Read
Homer, AK VOR/DME | Wuxan, AK FIX |  | 45000
18000—GNSS MEA
Wuxan, AK FIX | Middleton Island, AK VOR/DME |  | 45000
18000—GNSS MEA
§ 95.4018 RNAV Route Q18 Is Added to Read
Galena, AK VORTAC | Barrow, AK VOR/DME |  | 45000
*18000—GNSS MEA
§ 95.4104 RNAV Route Q104 Is Added to Read
Cypress, FL VOR/DME | Defun, FL FIX | *18000 | 45000
*18000—GNSS MEA
§ 95.4106 RNAV Route Q106 Is Added to Read
Smelz, FL FIX | Gaday, AL FIX | *18000 | 45000
*18000—GNSS MEA
§ 95.4108 RNAV Route Q108 Is Added to Read
Gaday, AL FIX | Clawz, GA FIX | *18000 | 45000
*18000—GNSS MEA
§ 95.4110 RNAV Route Q110 Is Added to Read
Kpasa, FL FIX | Feona, GA FIX | *18000 | 45000
*18000—GNSS MEA
§ 95.4112 RNAV Route Q112 Is Added to Read
Inpin, FL FIX | Defun, FL FIX | *18000 | 45000
*18000—GNSS MEA
§ 95.4116 RNAV Route Q116 Is Added to Read
Kpasa, FL FIX | Ceeya, GA FIX | *18000 | 45000
*18000—GNSS MEA
§ 95.4118 RNAV Route Q118 Is Added to Read
Kpasa, FL FIX | Lenie, GA FIX | *18000 | 45000
*18000—GNSS MEA
§ 95.4200 RNAV Route T200 Is Added to Read
Foothills, GA VORTAC | Riche, SC FIX | #4800 | 8000
#Eastbound Expect 5000
Westbound Expect 6000
Riche, SC FIX | Florence, SC VORTAC | #2500 | 8000
#Eastbound Expect 5000
Westbound Expect 6000
§ 95.4201 RNAV Route T201 Is Added to Read
Columbia, SC VOTRAC | Locas, NC FIX | #2500 | 7000
#Northbound Expect 5000
Southbound Expect 6000
Locas, NC FIX | Jotta, NC FIX | #4400 | 7000
#Northbound Expect 5000
Southbound Expect 6000
§ 95.4202 RNAV Route T202 Is Added to Read
Riche, SC FIX | Hustn, NC FIX | #2500 | 8000
#Northbound Expect 5000
Southbound Expect 6000
Hustn, NC FIX | Gants, NC FIX | #2600 | 8000
#Northbound Expect 5000
Southbound Expect 6000
§ 95.4203 RNAV Route T203 Is Added to Read
Columbia, SC VORTAC | Locks, SC FIX | #2500 | 7000
#Northbound Expect 6000
Southbound Expect 7000
Locks, SC FIX | Barretts Mountain, NC VOR/DME | #4900 | 7000
#Northbound Expect 6000
Southbound Expect 7000
Barretts Mountain, NC VOR/DME | Pulaski, VA VORTAC | #6000 | 7000
#Northbound Expect 6000
Southbound Expect 7000
§ 95.4219 RNAV Route T219 Is Added to Read
Kipuk, AK VOR/DME | Nanwak, AK NDB/DME | *3000 | 17500
*2500—MOCA
§ 95.4222 RNAV Route T222 Is Added to Read
Mount Moffett, AK NDB/DME | St. Paul Island, AK NDB/DME | 6000 | 17500
St. Paul Island, AK NDB/DME | Kipnuk, AK VOR/DME | 3000 | 17500
Kipnuk, AK VOR/DME | BETHEL, AK VORTAC | *3000 | 17500
*2400—MOCA
Bethel, AK VORTAC | McGrath, AK VORTAC | 5000 | 17500
McGrath, AK VORTAC | Nenana, AK VORTAC | 5000 | 17500
Nenana, AK VORTAC | Fairbanks, AK VORTAC | *4000 | 17500
*3200—MOCA
§ 95.4223 RNAV Route T223 Is Added to Read
Cape Newenham, AK NDB | Dillingham, AK VOR/DME | *5000 | 17500
Dillingham, AK VOR/DME | Fagin, AK FIX | *5000 | 17500
Fagin, AK FIX | Nonda, AK FIX | *9000 | 17500
*8200—MOCA
Nonda, AK FIX | Bluga, AK FIX | *12000 | 17500
*11500—MOCA
*Bluga, AK FIX | Anchorage, AK VOR/DME | **2000 | 17500
*1400—MOCA
*8500—MCA Bluga, AK FIX SW BND
§ 95.4225 RNAV Route T225 Is Added to Read
Hooper Bay, AK VOR/DME | Unalakleet, AK VOR/DME | 4000 | 17500
Unalakleet, AK VOR/DME | Galena, AK VORTAX | 5000 | 17500
Galena, AK VORTAC | Tanana, AK VOR/DME | 6000 | 17500
Tanana, AK VOR/DME | Fairbanks, AK VORTAC | 5000 | 17500
§ 95.4226 RNAV Route T226 Is Added to Read
Johnstonepoint, AK VOR/DME | *Fidal, AK FIX | 5000 | 17500
*7000—MCA Fidal, AK FIX N BND
Fidal, AK FIX | *Robes, AK FIX | 8000 | 17500
*8900—MCA Robes, AK FIX N BND
Robes, AK FIX | Klung, AK FIX | 10000 | 17500
*Klung, AK FIX | Gulkana, AK VOR/DME | 7000 | 17500
*7100—MCA Klung, AK FIX S BND
Gulkana, AK VOR/DME | Dozey, AK FIX | 5000 | 17500
Dozey, AK FIX | *Paxon, AK FIX | **8000 | 17500
*9500—MCA Paxon, AK FIX N BND
*7300—MOCA
Paxon, AK FIX | Donel, AK FIX | *12000 | 17500
*11500—MOCA
*Donel, AK FIX | Big Delta, AK VORTAC | 7000 | 17500
*10600—MCA Donel, AK FIX S BND
Big Delta, AK VORTAC | Hexax, AK FIX | 7000 | 17500
Hexax, AK FIX | Fort Yukon, AK VORTAC | *4000 | 17500
*3100—MOCA
§ 95.4227 RNAV Route T227 Is Added to Read
Shemya, AK NDB | Jannt, AK FIX | * 3000 | 17500
* 2500—MOCA
Jannt, AK FIX | Mount Moffett, AK NDB/DME | * 7000 | 17500
6300—MOCA
Mount Moffett, AK NDB/DME | Dutch Harbor, AK NDB/DME | 8000 | 17500
* Dutch Harbor, AK NDB/DME | Cipim, AK FIX | ** 6000 | 17500
* 5400—MOCA
* 6600—MCA Dutch Harbor, AK NDB W BND
Cipim, AK FIX | Elfee, AK NDB | * 3000 | 17500
* 2500—MOCA
§ 95.4228 RNAV Route T228 Is Added to Read
Cape Newenham, AK NDB | Kipnuk, AK VOR/DME | 3000 | 17500
Kipnuk, AK VOR/DME | Hooper Bay, AK VOR/DME | * 4000 | 17500
3500—MOCA
Hooper Bay, AK VOR/DME | Nome, AK VOR/DME | * 5000 | 17500
* 4400—MOCA
Nome, AK VOR/DME | Hikax, AK FIX | 7000 | 17500
Hikax, AK FIX | Shishmaref, AK NDB | 4000 | 17500
§ 95.4229 RNAV Route T229 Is Added to Read
Point Hope, AK NDB | Kotzebue, AK VOR/DME | 4000 | 17500
Kotzebue, AK VOR/DME | Selawik, AK VOR/DME | * 3000 | 17500
* 2500—MOCA
Selawik, AK VOR/DME | Huslia, AK VOR/DME | 4000 | 17500
Huslia, AK VOR/DME | Tanana, AK VOR/DME | * 6000 | 17500
* 5500—MOCA
Tanana, AK VOR/DME | Fairbanks, AK VORTAC | 5000 | 17500
§ 95.4230 RNAV Route T230 Is Added to Read
St Paul Island, AK NDB/DME | Saldo, AK NDB | * 3000 | 17500
§ 95.4231 RNAV Route T231 Is Added to Read
Kotzebue, AK VOR/DME | * Zutul, AK FIX | 3000 | 17500
* 3500—MCA Zutul, AK FIX E BND
Zutul, AK FIX | Sigme, AK FIX | 6000 | 17500
Sigme, AK FIX | Fairbanks, AK VORTAC | 5000 | 17500
§ 95.4232 RNAV Route T232 Is Added to Read
Olaru, AK FIX | Northway, AK VORTAC | * 6000 | 17500
* 5400—MOCA
Northway, AK VORTAC | Big Delta, AK VORTAC | 8000 | 17500
Big Delta, AK VORTAC | Fairbanks, AK VORTAC | * 5000 | 17500
* 4300—MOCA
Fairbanks, AK VORTAC | Bettles, AK VOR/DME | * 6000 | 17500
* 5200—MOCA
Bettles, AK VOR/DME | Bronx, AK FIX | 9000 | 17500
Bronx, AK FIX | Barrow, AK VOR/DME | * 4000 | 17500
* 1200—MOCA
§ 95.4233 RNAV Route T233 Is Added to Read
Ambler, AK NDB/DME | Korky, AK FIX | 5000 | 17500
Korky, AK FIX | Encor, AK FIX | 7000 | 17500
Encor, AK FIX | Evansville, AK NDB | 5000 | 17500
§ 95.4234 RNAV Route T234 Is Added to Read
Fairbanks, AK VORTAC | Tollo, AK FIX | 5000 | 17500
Tollo, AK FIX | Rampa, AK FIX | 7000 | 17500
§ 95.4235 RNAV Route T235 Is Added to Read
Atqasuk, AK NDB | Nuiqsut Village, AK NDB | * 3000 | 17500
* 1300—MOCA
§ 95.4236 RNAV Route T236 Is Added to Read
Nenana, AK VORTAC | Rampa, AK FIX | 7000 | 17500
§ 95.4237 RNAV Route T237 Is Added to Read
* Homer, AK VOR/DME | Wuxan, AK FIX | ** 9000 | 17500
* 4800—MCA Homer, AK VORTAC E BND
* 8500—MOCA
Wuxan, AK FIX | Middleton Island, AK VOR/DME | * 5000 | 17500
* 4100—MOCA
§ 95.4238 RNAV Route T238 Is Added to Read
Rampa, AK FIX | Bettles, AK VOR/DME | 7000 | 17500
§ 95.4239 RNAV Route T239 Is Added to Read
Gambell, AK NDB/DME | Kukuliak, AK VOR/DME | 4000 | 17500
§ 95.4240 RNAV Route T240 Is Added to Read
Evansville, AK NDB | Namre, AK FIX | *10000 | 17500
*9500—MOCA
Namre, AK FIX | Deadhorse, AK VOR/DME | 4000 | 17500
§ 95.4241 RNAV Route T241 Is Added to Read
Latch, AK FIX | Level Island, AK VOR/DME | 5000 | 17500
§ 95.4242 RNAV Route T242 Is Added to Read
*Talkeetna, AK VOR/DME | JOKAP, AK FIX | **16000 | 17500
*12100—MCA Talkeetna, AK VOR/DME N BND
*15300—MOCA
*Jokap, AK FIX | Kutde, AK FIX | 6000 | 17500
*11500—MCA Jokap, AK FIX S BND
Kutde, AK FIX | Lacil, AK FIX | *15000 | 17500
*9400—MOCA
Lacil, AK FIX | Barrow, AK VOR/DME | *8000 | 17500
*1800—MOCA
§ 95.4244 RNAV Route T244 Is Added to Read
Anchorage, AK VOR/DME | *Cakad, AK FIX | **2000 | 17500
*3500—MCA Cakad, AK FIX NW BND
*1400—MOCA
Cakad, AK FIX | *CEXIX, AK FIX | 5000 | 17500
*7400—MCA Cexix, AK FIX NW BND
Cexix, AK FIX | Betpe, AK FIX | 10000 | 17500
*Betpe, AK FIX | Cheff, AK FIX | 6000 | 17500
*7400—MCA Betpe, AK FIX SE BND
*Cheff, AK FIX | Confi, AK FIX | 5000 | 17500
*5300—MCA Cheff, AK FIX SE BND
Confi, AK FIX | Nome, AK VOR/DME | 3000 | 17500
§ 95.4246 RNAV Route T246 Is Added to Read
Anchorage, AK VOR/DME | Webik, AK FIX | 9000 | 17500
*8500—MOCA
Webik, AK FIX | Galena, AK VORTAC | 6000 | 17500
*5500—MOCA
§ 95.4248 RNAV Route T248 Is Added to Read
Kukuliak, AK VOR/DME | Bicap, AK FIX | 4000 | 17500
*Bicap, AK FIX | Emmonak, AK VOR/DME | 2000 | 17500
*3000—MCA W BND AT BICAP, AK FIX
§ 95.4250 RNAV Route T250 Is Added to Read
Bethel, AK VORTAC | Banat, AK FIX | 2000 | 17500
BANAT, AK FIX | Kukuliak, AK VOR/DME | 4000 | 17500
§ 95.4252 RNAV Route T252 Is Added to Read
Kotzebue, AK VOR/DME | Perci, AK FIX | 3000 | 17500
Perci, AK FIX | Warrt, AK FIX | 7000 | 17500
Warrt, AK FIX | Deadhorse, AK VOR/DME | 3000 | 17500
§ 95.4256 RNAV Route T256 Is Added to Read
Galena, AK VORTAC | *Meese, AK FIX | 3000 | 17500
*4800—MCA MEESE, AK FIX N BND
Meese, AK FIX | Nitti, AK FIX | 6000 | 17500
Nitti, AK FIX | Pannt, AK FIX | 8000 | 17500
Pannt, AK FIX | Osson, AK FIX | 5000 | 17500
Osson, AK FIX | Barrow, AK VOR/DME | *4000 | 17500
*1700—MOCA
§ 95.4258 RNAV Route T258 Is Added to Read
Shishmaref, AK NDB | Point Hope, AK NDB | 2000 | 17500
§ 95.4260 RNAV Route T260 Is Added to Read
Tin City, AK NDB/DME | Cognu, AK FIX | *5000 | 17500
*4300—MOCA
Cognu, AK FIX | Point Hope, AK NDB | *3000 | 17500
*2200—MOCA
§ 95.4262 RNAV Route T262 Is Added to Read
Kodiak, AK VORTAC | *Wuxan, AK FIX | 6000 | 17500
*5200—MCA WUXAN, AK FIX E BND
*3800—MOCA
Wuxan, AK FIX | Johnstone Point, AK VOR/DME | 7000 | 17500
§ 95.4264 RNAV Route T264 Is Added to Read
Kodiak, AK VORTAC | Zaxum, AK FIX | *6000 | 17500
*4000—MOCA
Zaxum, AK FIX | Middleton Island, AK VOR/DME | *3000 | 17500
*2200—MOCA
§ 95.4266 RNAV Route T266 Is Added to Read
Fredericks Point, AK NDB | Coghlan Island, AK NDB | **7000 | 17500
*6300—MOCA
§ 95.4268 RNAV Route T268 Is Added to Read
Nichols, AK NDB | Fredericks Point, AK NDB | 6000 | 17500
§ 95.4270 RNAV Route T270 Is Added to Read
Norton Bay, AK NDB | Hexog, AK FIX | *6000 | 17500
*5400—MOCA
Hexog, AK FIX | Shishmaref, AK NDB | 5000 | 17500

From | To | MEA
§ 95.6001 VICTOR Routes—U.S.
§ 95.6002 VOR Federal Airway V2 Is Amended to Read in Part
Mullan Pass, ID VOR/DME | Alton, MT FIX | *9600
*9000—MOCA
Missoula, MT VOR/DME | Helena, MT VORTAC | *13000
*10300—MOCA
§ 95.6021 VOR Federal Airway V21 Is Amended to Read in Part
Dubois, ID VORTAC | Dillon, MT VOR/DME | *12000
*11200—MOCA
§ 95.6142 VOR Federal Airway V142 Is Amended to Read in Part
Malad City, ID VOR/DME | *Orney, UT FIX | 10000
*11100—MCA Orney, UT FIX, E BND
Orney, UT FIX | Fort Bridger, WY VOR/DME | 12000
§ 95.6187 VOR Federal Airway V187 Is Amended to Read in Part
Abarn, MT FIX | Missoula, MT VOR/DME | *13000
*11400—MOCA
§ 95.6257 VOR Federal Airway V257 Is Amended to Read in Part
Dubois, ID VORTAC | Dillon, MT VOR/DME | *12000
*11200—MOCA
Coppertown, MT VOR/DME | Glues, MT FIX | 9200
Glues, MT FIX | Scaat, MT FIX | *16000
*9200—MOCA
Woken, MT FIX | Great Falls, MT VORTAC | 8800
§ 95.6343 VOR Federal Airway V343 Is Amended to Read in Part
Raney, MT FIX | *Gatey, MT FIX |
| S BND | 14000
| N BND | 10200
*11500—MCA Gatey, MT FIX, S BND

From | To | Changeover Points: Distance | Changeover Points: From
§ 95.8003 VOR Federal Airway Changeover Points Airway Segmement Is Amended to Modify Changeover Point
Great Falls, MT VORTAC | Missoula, MT VOR/DME | 84 | Great Falls

[FR Doc. 05-15179 Filed 8-1-05; 8:45 am]

BILLING CODE 4910-13-U